DEPARTMENT OF ENERGY

Federal Energy Regulatory Commission

[Docket No. CP00-40-006]

Florida Gas Transmission Company; Notice of Intent To Prepare an Environmental Assessment for the Proposed Compressor Station 31 Relocation Project, Request for Comments on Environmental Issues, and Notice of Site Visit

March 1, 2002.

The staff of the Federal Energy Regulatory Commission (FERC or Commission) will prepare an environmental assessment (EA) that will discuss the environmental impacts involved with Florida Gas Transmission Company's (FGT) construction and operation of Compressor Station 31 at its newly proposed location in Osceola County, Florida.¹ This EA/EIS will be used by the Commission in its decision-making process to determine whether the project is in the public convenience and necessity.

¹ FGT's amended application was filed with the Commission under Sections 7(c) of the Natural Gas Act on January 22, 2002. The original application in Docket No. CP00-40-000 was filed by FGT on December 1, 1999.

Background

FGT originally proposed to construct this station on a parcel owned by Osceola County adjacent to Osceola Parkway. This location, and alternative locations, were analyzed in the Environmental Impact Statement (EIS ) issued by the Commission in July 2001 for FGT's Phase V Expansion Project. The EIS also responded to the numerous comments received on the draft EIS expressing concerns and the proximity of the station to residences and other related issues.² The analysis in the EIS indicated that none of the alternative locations were environmentally preferable to the original location.

² The draft EIS was issued by the Commission in April 2001 for a 45-day comment period. The majority of comments on the draft EIS were related to Compressor Station 31.

After consideration of the issues in the proceeding, the Commission approved FGT's Phase V Expansion Project, with conditions, in an Order granting a Certificate of Public Convenience and Necessity on July 27, 2001. Several of the environmental conditions in the Order specifically address the remaining concerns related to noise and visual impacts associated Compressor Station 31.

Recognizing the concerns surrounding the approved location, FGT reevaluated the engineering criteria used to design the compressor station. As a result, FGT determined that it could move the compressor station further than previously indicated, and consequently filed its amendment to requesting authorization from the Commission to move the station.

Summary of the Proposed Project

The proposed facilities consist of a single 2,500-horsepower, gas driven compressor and associated piping to be installed at milepost 12.6 on FGT's existing St. Petersburg Lateral. The compressor would be enclosed within a small building.

The proposed new location of the compressor station would be constructed near the intersection of Interstate 4 and County Road 545. Both the original site and newly proposed station site are shown on the map in appendix 1.³

³ The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

FGT has executed an option to purchase a 5-acre tract to construct the compressor station. Of the 5 acres, only 1 acre would be occupied by the compressor station during operation. The remaining 4 acres would be held as a buffer area.

The EA Process

The National Environmental Policy Act (NEPA) requires the Commission to take into account the environmental impacts that could result from an action whenever it considers the issuance of a Certificate of Public Convenience and Necessity. NEPA also requires us ⁴ to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

⁴ “We”, “us”, and “our” refer to the environmental staff of the Office of Energy Projects (OEP).

Our independent analysis of the impacts that could occur as a result of the construction and operation of the proposed project will be in the EA. We will also evaluate possible alternatives to the project, and make recommendations on how to lessen or avoid impacts on the various resources. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

This notice is being sent to landowners of property within a half-mile radius of newly proposed location for Compressor Station 31; parties who commented on Compressor Station 31 in the EIS process; Federal, state, and local agencies; elected officials; Indian tribes that might attach religious and cultural significance to historic properties in the area of potential effects; environmental and public interest groups; and local libraries and newspapers. State and local government representatives are encouraged to notify their constituents of this proposed action and encourage them to comment on their areas of concern.

To ensure your comments are considered, please carefully follow the instructions in the public participation section beginning on page 5.

Additional information about the Commission's process can be found on a fact sheet prepared by the FERC entitled “An Interstate Natural Gas Facility On My Land? What Do I Need To Know?”, which was attached to the project notice FGT provided to landowners. This fact sheet addresses a number of typically asked questions, including the use of eminent domain and how to participate in the Commission's proceedings. It is available for viewing on the FERC Internet Web site, www.ferc.gov.

Currently Identified Environmental Issues

In general, the EA will address:

• geology and soils;

• wetlands;

• wildlife and vegetation;

• threatened and endangered species;

• land use and visual resources

• cultural resources;

• air quality and noise;

• public safety; and

• alternatives

We have already identified several specific issues that we think deserve attention based on a preliminary review of the environmental information provided by FGT. This preliminary list of issues may be changed based on your comments and our analysis.

• Land Use and Visual Resources

—proposed expansion of Interstate 4 in the vicinity of the to the station

—relocation of adjacent recreational vehicle park

—visibility of the station from the adjacent roadways

—potential for residential development near the station site

• Public Safety

—lightning strikes

• Air Quality and Noise

—compressor station emissions

—noise from compressor station equipment

• Alternatives

—comparison of approved and currently proposed sites

We will not discuss impacts to water resources and fisheries since these resources are not in the project area and would not be affected by the construction or operation of the proposed compressor station.

Public Participation

You can make a difference by providing us with your specific comments or concerns about the project. By becoming a commentor, your concerns will be addressed in the EA and considered by the Commission. You should focus on the potential environmental effects of the proposal, alternatives to the proposal, and measures to avoid or lessen environmental impact. The more specific your comments, the more useful they will be. Please carefully follow these instructions to ensure that your comments are received in time and properly recorded:

• Send an original and two copies of your letter to: Magalie R. Salas, Secretary, Federal Energy Regulatory Commission, 888 First St., NE, Room 1A, Washington, DC 20426.

• Label one copy of the comments for the attention of OEP—Gas 1, PJ-11.1.

sbull; Reference Docket No. CP00-40-006.

• Mail your comments so that they will be received in Washington, DC on or before April 1, 2002.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's Web site at http://www.ferc.gov under the “e-Filing” link and the link to the User's Guide. Before you can file comments you will need to create an account which can be created by clicking on “Login to File” and then “New User Account.”

We may mail the EA for comment. If you are interested in receiving it, please return the Information Request (appendix 3). If you do not return the Information Request, you will be taken off the mailing list.

Site Visit

We will also be visiting the proposed location on Wednesday, March 13, 2002 beginning at approximately 11:00 a.m. Anyone interested in participating in the site visit should contact the Commission's Office of External Affairs identified at the end of this notice for more details and must provide their own transportation.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁵ Only intervenors have the right to seek rehearing of the Commission's decision.

⁵ Interventioins may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 (direct line) or you can call the FERC operator at 1-800-847-8885 and ask for External Affairs. Information is also available on the FERC Web site, www.ferc.gov, using the “RIMS” link to information in this docket number. Click on the “RIMS” link, select “Docket #” from the RIMS Menu, and follow the instructions. For assistance with access to RIMS, the RIMS helpline can be reached at (202) 208-2222.

Similarly, the “CIPS” link on the FERC Internet Web site provides access to the texts of formal documents issued by the Commission, such as orders, notices, and rulemakings. From the FERC Internet Web site, click on the “CIPS” link, select “Docket #” from the CIPS menu, and follow the instructions. For assistance with access to CIPS, the CIPS helpline can be reached at (202) 208-2474.

Magalie R. Salas,
Secretary.

[FR Doc. 02-5437 Filed 3-6-02; 8:45 am]

BILLING CODE 6717-01-P